DEPARTMENT OF TRANSPORTATION

Office of the Secretary

Privacy Act of 1974: System of Records

AGENCY: Office of the Secretary, Federal Aviation Administration & DOT.

ACTION: Notice to establish a system of records.

SUMMARY: DOT proposes to establish a new system of records under the Privacy Act of 1974.

EFFECTIVE DATE: June 17, 2002. If no comments are received, the proposal will become effective on the above date. If comments are received, the comments will be considered and, where adopted, the documents will be republished with changes.

ADDRESSES: Address all comments concerning this notice to Judy Street, Department of Transportation, Federal Aviation Administration, (APF-100), 800 Independence Avenue, SW., Washington, DC 20590, (202) 267-9895.

FOR FURTHER INFORMATION CONTACT: Yvonne L. Coates, Department of Transportation, Office of the Secretary, 400 7th Street, SW., Washington, DC 20590, (202) 366-6964 (telephone), (202) 366-7024 (fax) Yvonne.Coates@ost.dot.gov (Internet address).

SUPPLEMENTARY INFORMATION: The Department of Transportation system of records notices subject to the Privacy Act of 1974 (5 U.S.C. 552a), as amended, have been published in the Federal Register and are available from the above mentioned address. The purpose of this notice is to propose the establishment of a system of records that will enable the Federal Aviation Administration to adequately assess the agency's cost of accomplishing its mission. The data will measure output produced; support management decisions and plans based on the cost information; measure and benchmark the performance of organizations and management; and provide end user services in support of user fees.

DOT/FAA 853

System name:

Cost Accounting System “ Employee Labor Data.

Security classification:

Unclassified, sensitive.

System location:

U. S. Department of Transportation, Federal Aviation Administration (FAA), Assistant Administrator for Financial Services, 800 Independence Avenue, SW., Washington, DC 20591.

Categories of individuals covered by the system:

Present and former Federal employees of the Federal Aviation Administration.

Categories of records in the system:

This system of records may include employee labor charging data containing FAA employee's names, current pay period and year-to-date salaries, and hours worked by FAA organizations on a particular project.

Authority for maintenance of the system:

49 U.S.C. 40101; 49 U.S.C. 40122(g)

Purpose(s):

This Cost Accounting System—Employee Labor Data System will enhance the agency's ability to provide the cost of end-user services in support of user fees; measure and benchmark the agency's financial and operational performance; support management decisions and plans based on reliable cost information; measure and control cost of resources consumed and outputs produced; track individual labor cost directly associated with projects/activities and facilitate the distribution of labor charges and actual operating expenses for costing purposes.

Routine uses of records maintained in the system, including categories of users and the purposes of such uses:

• To contractors, grantees, experts, consultants, detailees, and other non-FAA employees performing or working on a contract, service, grant, cooperative agreement, or other assignment from the Federal government, when necessary to accomplish an agency function related to this system of records.

• To other government agencies when required by law.

• See the Prefatory Statement of General Routine Uses.

Disclosure to consumer reporting agencies:

None.

Policies and practices for storing, retrieving, accessing, retaining and disposing of records in the system:

Storage:

These records are stored on Local Area Network drives, magnetic cartridges, diskettes, and may be in hardcopy format when required.

Retrievability:

These records are retrieved by the employee's name, organization, and assigned project numbers.

Safeguards:

Access to the system of records is restricted to authorized users. Each user is granted access with his or her user name and security password. The user privileges of each user are based on his or her assigned access rights. User access to sensitive data is granted only to limited individuals with the approval of management.

Retention and disposal:

The records are retained and disposed of in accordance with FAA Order 1350.15 item number 2710 (2) (b), General Financial Records. Records are disposed of when 6 years and 3 months old.

System manager(s) and address:

Manager, Cost Accounting Division (APF-300), 800 Independence Avenue, SW., Washington, DC 20591.

Notification procedures:

Write to the System Manager.

Record access procedures:

Write to the System Manager. Provide full name and a description of information that you seek, including the time frame during which the records may have been generated. Individuals requesting access must comply with the Department of Transportation's Privacy Act regulations on verification of identity (49 C.F.R. 10.37).

Contesting record procedures:

Write to the System Manager. Identify the information being contested, the reason for contesting it and the correction requested.

Record source categories:

Information contained in this system is obtained from current Privacy Act systems of records, DOT/ALL 11, Integrated Personnel Payroll System (IPPS) and DOT/ALL 7, Departmental Accounting and Financial Information System (DAFIS) and Delphi Accounting System—Management Information Reporting (MIR).

Exemptions claimed for the system:

None.

Dated: April 24, 2002.
Yvonne L. Coates,
Privacy Act Coordinator.

[FR Doc. 02-10942 Filed 5-6-02; 8:45 am]

BILLING CODE 4910-62-P